ENVIRONMENTAL PROTECTION AGENCY

40 CFR Part 52

[EPA-R08-OAR-2019-0696; FRL-10009-49-Region 8]

Approval and Promulgation of Air Quality State Implementation Plans; Provo, Utah Second 10-Year Carbon Monoxide Maintenance Plan

AGENCY: Environmental Protection Agency (EPA).

ACTION: Final rule.

SUMMARY: The Environmental Protection Agency (EPA) is taking final action to approve State Implementation Plan (SIP) revisions submitted by the State of Utah on January 14, 2019. This submittal includes a Clean Air Act (CAA) section 175A(b) second 10-year limited maintenance plan (LMP) for the Provo area for the Carbon Monoxide (CO) National Ambient Air Quality Standard (NAAQS) and revisions to R307-110-12, which incorporates the LMP into the Utah SIP, Section IX, Part C, Carbon Monoxide into Air Quality rules. The EPA is taking this action pursuant to the CAA.

DATES: This rule is effective on July 13, 2020.

ADDRESSES: The EPA has established a docket for this action under Docket ID No. EPA-R08-OAR-2019-0696. All documents in the docket are listed on the http://www.regulations.gov website. Although listed in the index, some information is not publicly available, e.g., CBI or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: Amrita Singh, Air and Radiation Division, EPA, Region 8, Mailcode 8ARD-QP, 1595 Wynkoop Street, Denver, Colorado 80202-1129, (303) 312-6103, singh.amrita@epa.gov.

SUPPLEMENTARY INFORMATION: Throughout this document wherever “we,” “us” or “our” is used, we mean the EPA.

I. Background

On March 2, 2020 (85 FR 12241), the EPA proposed approval of the Provo, second 10-year maintenance plan; which is located at Section IX, Part C.6 of the Utah SIP. The CAA section 175A(b) requires that eight years after an area is redesignated to attainment, the state must submit a subsequent maintenance plan to the EPA, covering a second 10-year period.¹ This second 10-year maintenance plan must demonstrate continued compliance with the NAAQS during this second 10-year period. To fulfill this requirement of the CAA, the Governor of Utah, submitted the second 10-year update of the Provo CO maintenance plan (hereafter; “revised Provo Maintenance Plan”) to us on January 14, 2019. Additionally, Utah submitted revisions to R307-110-12, Section IX, Control Measures for Area and Point Sources, Part C, Carbon Monoxide, which incorporates the revised CO LMP.

¹ In this case, the initial maintenance period extended through 2015.

For the revised Provo Maintenance Plan, the State used the LMP option to demonstrate continued maintenance of the CO NAAQS in the Provo area. The EPA has verified that the Provo area qualifies for the LMP option because the maximum design value for the most recent eight consecutive quarters with certified data at the time the State adopted the plan was 1.6 ppm.

II. Response to Comments

The comment period for our March 2, 2020 (85 FR 12241), proposed rule was open for 30 days. The EPA received one comment on the proposed rule pertaining to EPA's Motor Vehicle Emission Simulator (MOVES) 2014 modeling.

Comment: The commenter asserts that EPA needs to recalculate the mobile source emission inventory using MOVES2014 modeling based on the newest updates to the finalized clean car regulations. Referring to recently lowered fuel economy standards, the commenter states that EPA needs to update its MOVES2014 modeling to assume the lower fuel economy and higher NOX, and HC emission. The commenter urges the only way that EPA can be sure the Provo area can maintain the CO standard for another 10 years is by accounting for the decreases in fuel economy.

Response: We do not agree that the 2016 attainment inventory submitted by the Utah Division of Air Quality (UDAQ) as part of this Second 10-year LMP is flawed or needs to be recalculated based on new changes to fuel economy standards. The purpose of the requirement to provide an attainment inventory in a LMP is to identify a level of emissions in the area sufficient to attain the NAAQS. See EPA'S LMP October 6, 1995 guidance document (Docket EPA-R08-OAR-2019-0696-003), at 3. By definition, areas that meet the criteria to qualify for a LMP are not providing a projection of future emissions in order to demonstrate maintenance of the NAAQS; these areas qualify for an exemption from that demonstration by virtue of attaining a design value that is well below the level of the NAAQS over an extended period of time.

The attainment year inventory submitted by UDAQ in this case provided emissions for the year 2016. To prepare the 2016 attainment year inventory to support the CO LMP for Provo, the UDAQ used the EPA's MOVES model (MOVES2014a) to calculate the CO emissions inventory for a typical winter day in 2016. As the commenter notes, the EPA and U.S. Department of Transportation have recently promulgated new vehicle fuel economy standards in the Safer Affordable Fuel Efficient (SAFE) Vehicles final rule. However, the SAFE rule will only affect vehicle model years 2021-2026. As the SAFE rule would only have an effect on the emission inventories prepared for 2021 and later, it has no bearing on the accuracy of the 2016 attainment inventory. The EPA therefore finds MOVES modeling completed by the UDAQ, for the Provo CO LMP, appropriately captures the emissions for the 2016 attainment year inventory and additional modeling is not necessary.

III. Final Action

The EPA is approving the revised Provo CO LMP and revision to R307-110-12 submitted on January 14, 2019. The Provo CO LMP is located at Section IX, Part C.6 of the Utah SIP. This maintenance plan meets the applicable CAA requirements, and we have determined it is sufficient to provide for maintenance of the CO NAAQS over the course of the second 10-year maintenance period out to 2025. In addition, the EPA is approving the Provo LMP as meeting the appropriate transportation conformity requirements found in 40 CFR part 93, subpart A.

IV. Incorporation by Reference

In this document, the EPA is finalizing regulatory text in an EPA final rule that includes incorporation by reference. In accordance with requirements of 1 CFR 51.5, the EPA is finalizing to incorporate by reference the UDAQ rules promulgated in the DAR, R307-110-12 and Section IX, Part C.6 as discussed in section III of the preamble. The EPA has made, and will continue to make, these materials generally available through www.regulations.gov and at the EPA Region 8 Office (please contact the person identified in the FOR FURTHER INFORMATION CONTACT section of this preamble for more information). Therefore, these materials have been approved by the EPA for inclusion in the State implementation plan, have been incorporated by reference by the EPA into that plan, are fully federally enforceable under sections 110 and 113 of the CAA as of the effective date of the final rulemaking of the EPA's approval, and will be incorporated by reference in the next update to the SIP compilation.²

² 62 FR 27968 (May 22, 1997).

V. Statutory and Executive Orders Review

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 11, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Nitrogen dioxide, Ozone, Particulate matter, Reporting and recordkeeping requirements, Sulfur dioxide, Volatile organic compounds.

Dated: May 18, 2020.
Gregory Sopkin,
Regional Administrator, Region 8.

Accordingly, 40 CFR part 52 is amended as follows:

PART 52—APPROVAL AND PROMULGATION OF IMPLEMENTATION PLANS

1. The authority citation for part 52 continues to read as follows:

Authority: 42 U.S.C. 7401 et seq.

Subpart TT—Utah

2. In § 52.2320:

a. In the table in paragraph (c), revise the entry “R307-110-12”.

b. In the table in paragraph (e), revise the entry “Section IX.C.6. Carbon Monoxide, Provo”.

The revisions read as follows:

§ 52.2320 Identification of plan.

* * * * *

(c) * * *

Rule No. | Rule title | State effective date | Final rule citation, date | Comments
* * * * * * *
R307-110. General Requirements: State Implementation Plan
* * * * * * *
R307-110-12 | Section IX. Control Measures for Area and Point Sources, Part C, Carbon Monoxide | 6/7/2018 | [insert Federal Register citation], 6/12/2020 | Only include provisions incorporated from Section IX, Part C.6 (Provo).
* * * * * * *

* * * * *

(e) * * *

Rule title | State effective date | Final rule citation, date | Comments
* * * * * * *
IX. Control Measures for Area and Point Sources
* * * * * * *
Section IX.C.6. Carbon Monoxide, Provo | 6/7/2018 | [insert Federal Register citation], 6/12/2020
* * * * * * *

[FR Doc. 2020-11163 Filed 6-11-20; 8:45 am]

BILLING CODE 6560-50-P